DEPARTMENT OF COMMERCE

International Trade Administration

[A-831-804, A-351-856, A-523-815, A-821-828, A-489-844]

Certain Aluminum Foil From the Republic of Armenia, Brazil, the Sultanate of Oman, the Russian Federation, and the Republic of Turkey: Antidumping Duty Orders

AGENCY: Enforcement and Compliance, International Trade Administration, Department of Commerce.

SUMMARY: Based on affirmative final determinations by the Department of Commerce (Commerce) and the International Trade Commission (ITC), Commerce is issuing antidumping duty orders on certain aluminum foil (aluminum foil) from the Republic of Armenia (Armenia), Brazil, the Sultanate of Oman (Oman), the Russian Federation (Russia), and the Republic of Turkey (Turkey).

DATES: Applicable November 12, 2021.

FOR FURTHER INFORMATION CONTACT: Margaret Collins at (202) 482-6250 (Armenia); George McMahon at (202) 482-1167 (Brazil); Benjamin A. Smith at (202) 482-2181 (Oman); Mike Heaney at (202) 482-4475 (Russia); Bryan Hansen at (202) 482-3683 (Turkey) AD/CVD Operations, Enforcement and Compliance, International Trade Administration, U.S. Department of Commerce, 1401 Constitution Avenue NW, Washington, DC 20230.

SUPPLEMENTARY INFORMATION:

Background

In accordance with sections 735(d) and 777(i) of the Tariff Act of 1930, as amended (the Act), on September 23, 2021, Commerce published in the Federal Register its affirmative final determinations in the less-than-fair-value (LTFV) investigations of aluminum foil from Armenia, Brazil, Oman, Russia, and Turkey.¹ On November 5, 2021, the ITC notified Commerce of its affirmative final determinations, pursuant to section 735(d) of the Act, that an industry in the United States is materially injured, within the meaning of section 735(b)(1)(A)(i) of the Act, by reason of the LTFV imports of aluminum foil from Armenia, Brazil, Oman, Russia, and Turkey.²

¹ See Certain Aluminum Foil from the Republic of Armenia: Final Affirmative Determination of Sales at Less Than Fair Value, 86 FR 52882 (September 23, 2021); see also Certain Aluminum Foil from Brazil: Final Affirmative Determination of Sales at Less Than Fair Value, 86 FR 52886 (September 23, 2021); Certain Aluminum Foil from the Sultanate of Oman: Final Affirmative Determination of Sales at Less Than Fair Value, 86 FR 52876 (September 23, 2021); Certain Aluminum Foil from the Russian Federation: Final Affirmative Determination of Sales at Less Than Fair Value, 86 FR 52878 (September 23, 2021); and Certain Aluminum Foil from the Republic of Turkey: Final Affirmative Determination of Sales at Less Than Fair Value, 86 FR 52880 (September 23, 2021) (collectively, Final Determinations), and accompanying Issues and Decision Memoranda.

² See Aluminum Foil from Armenia, Brazil, Oman, Russia, and Turkey, USITC Investigation Nos. 701-TA-658-659 and 731-TA-1538-1542 (Final) (November 5, 2021).

Scope of the Orders

The product covered by these orders is aluminum foil from Armenia, Brazil, Oman, Russia, and Turkey. For a complete description of the scope of these orders, see the appendix to this notice.

Antidumping Duty Orders

On November 5, 2021, in accordance with section 735(d) of the Act, the ITC notified Commerce of its final determinations in these investigations, in which it found that an industry in the United States is materially injured by reason of imports of aluminum foil from Armenia, Brazil, Oman, Russia, and Turkey.³ Therefore, in accordance with section 735(c)(2) of the Act, Commerce is issuing these antidumping duty orders. Because the ITC determined that imports of aluminum foil from Armenia, Brazil, Oman, Russia, and Turkey are materially injuring a U.S. industry, unliquidated entries of subject merchandise from Armenia, Brazil, Oman, Russia, and Turkey, entered into the United States or withdrawn from warehouse for consumption, are subject to the assessment of antidumping duties.

³ Id.

Therefore, in accordance with section 736(a)(1) of the Act, Commerce will direct U.S. Customs and Border Protection (CBP) to assess, upon further instructions by Commerce, antidumping duties equal to the amount by which the normal value of the foreign like product exceeds the export price (or constructed export price) of subject merchandise, for all relevant entries of aluminum foil from Armenia, Brazil, Oman, Russia, and Turkey. With the exception of entries occurring after the expiration of the provisional measures period and before publication of the ITC's final affirmative injury determinations in the Federal Register, as further described below, antidumping duties will be assessed on unliquidated entries of aluminum foil from Armenia, Brazil, Oman, and Russia, entered or withdrawn from warehouse for consumption, on or after May 4, 2021, the date of publication of the Preliminary Determinations.⁴ Regarding Turkey, because Commerce made a preliminary negative determination of sales at LTFV,⁵ Commerce did not direct CBP to suspend liquidation or to require a cash deposit of estimated antidumping duties for entries of aluminum foil from Turkey on or after May 4, 2021. However, because Commerce made a final affirmative determination of sales at LTFV, Commerce directed CBP to begin suspension of liquidation of imports of aluminum foil from Turkey, entered or withdrawn from warehouse for consumption, on or after September 23, 2021, the date of publication of the Turkey Final Determination.⁶

⁴ See Certain Aluminum Foil from the Republic of Armenia: Preliminary Affirmative Determination of Sales at Less Than Fair Value, Postponement of Final Determination, and Extension of Provisional Measures, 86 FR 23672 (May 4, 2021); see also Certain Aluminum Foil from Brazil: Preliminary Affirmative Determination of Sales at Less Than Fair Value, Postponement of Final Determination, and Extension of Provisional Measures, 86 FR 23678 (May 4, 2021); Certain Aluminum Foil from the Sultanate of Oman: Preliminary Affirmative Determination of Sales at Less Than Fair Value, Postponement of Final Determination, and Extension of Provisional Measures, 86 FR 23681 (May 4, 2021); and Certain Aluminum Foil from the Russian Federation: Preliminary Affirmative Determination of Sales at Less Than Fair Value, Postponement of Final Determination, and Extension of Provisional Measures, 86 FR 23683 (May 4, 2021) (collectively, Preliminary Determinations).

⁵ See Certain Aluminum Foil from the Republic of Turkey: Preliminary Negative Determination of Sales at Less Than Fair Value, Postponement of Final Determination, 86 FR 23686 (May 4, 2021) (Turkey Preliminary Determination).

⁶ See Certain Aluminum Foil from the Republic of Turkey: Final Affirmative Determination of Sales at Less Than Fair Value, 86 FR 52880 (September 23, 2021) (Turkey Final Determination).

Continuation of the Suspension of Liquidation

In accordance with section 736 of the Act, Commerce intends to instruct CBP to continue to suspend liquidation of all relevant entries of aluminum foil from Armenia, Brazil, Oman, Russia, and Turkey. These instructions suspending liquidation will remain in effect until further notice. Commerce also intends to instruct CBP to require cash deposits equal to the estimated weighted-average dumping margins indicated in the tables below. Accordingly, effective on the date of publication in the Federal Register of the notice of the ITC's final affirmative injury determinations, CBP will require, at the same time that importers would normally deposit estimated duties on the merchandise, a cash deposit equal to the rates listed below. The relevant all-others rates apply to all producers or exporters not specifically listed.

Provisional Measures

Section 733(d) of the Act states that the instructions issued under section 733(d)(1) and (2) of the Act pursuant to an affirmative preliminary determination, may not remain in effect for more than four months, except that Commerce may extend the four-month period to no more than six months at the request of exporters representing a significant proportion of exports of the subject merchandise. At the request of exporters that account for a significant proportion of aluminum foil Armenia, Brazil, Oman, and Russia, Commerce extended the four-month period in each of these investigations. Commerce published the Preliminary Determinations in these investigations in the Federal Register on May 4, 2021.⁷

⁷ See Preliminary Determinations. Provisional measures were not in effect for entries of aluminum foil from Turkey because Commerce's preliminary determination was negative. See also Turkey Preliminary Determination.

The extended provisional measures period, beginning on the date of publication of the Preliminary Determinations, ended on October 30, 2021. Therefore, in accordance with section 733(d) of the Act and its practice,⁸ Commerce will instruct CBP to terminate the suspension of liquidation and to liquidate, without regard to antidumping duties, unliquidated entries of aluminum foil from Armenia, Brazil, Oman, and Russia, entered or withdrawn from warehouse for consumption, after October 30, 2021, the final day on which the provisional measures were in effect, until and through the day preceding the date of publication of the ITC's final affirmative injury determinations in the Federal Register. Suspension of liquidation and the collection of cash deposits will resume on the date of publication of the ITC's final determinations in the Federal Register.

⁸ See, e.g., Certain Corrosion-Resistant Steel Products from India, Italy, the People's Republic of China, the Republic of Korea, and Taiwan: Amended Final Affirmative Antidumping Determination for India and Taiwan, and Antidumping Duty Orders, 81 FR 48390, 48392 (July 25, 2016).

Estimated Weighted-Average Dumping Margins

The estimated weighted-average dumping margins are as follows:

Armenia
Producers | Exporters | Weighted-average dumping margins (percent)
Rusal Armenal CJSC | Rusal Products GmbH | 29.11
Rusal Armenal CJSC | Rusal Marketing GmbH | 29.11
Armenia-Wide Entity |  | 29.11

Brazil
Producers/exporters | Weighted-average dumping margins (percent)
Arconic Ind. E Com de Metias LTDA * | * 63.05
Companhia Brasileira de Alumínio/CBA Itapissuma | 13.93
All Others | 13.93

Oman
Producers/exporters | Weighted-average dumping margins (percent)
Oman Aluminium Rolling Company LLC (OARC) | 3.89
All Others | 3.89

Russia
Producers/exporters | Weighted-average dumping margins (percent)
Rusal Marketing GmbH/Rusal Products GmbH/RTI Limited/JSC United Company Rusal—Trading House/JSC Rusal Sayanal/JSC Ural Foil* | * 62.18
All Others | 62.18

Turkey
Producers/exporters | Weighted-average dumping margins (percent) | Cash deposit rate (adjusted for subsidy offsets) (percent) ⁹
Assan Aluminyum Sanayi ve Ticaret A.S.; Kibar Dis Ticaret A.S.; and Ispak Esnek Ambalaj Sanayi A.S | 2.28 | 1.95
All Others | 2.28 | 1.95
* Rate was assigned based on facts available with adverse inferences.

Establishment of the Annual Inquiry Service Lists

⁹ See Certain Aluminum Foil from the Republic of Turkey: Final Affirmative Countervailing Duty Determination, 86 FR 52884 (September 23, 2021), and accompanying Issues and Decision Memorandum.

On September 20, 2021, Commerce published the final rule titled “Regulations to Improve Administration and Enforcement of Antidumping and Countervailing Duty Laws” in the Federal Register.¹⁰ On September 27, 2021, Commerce also published the notice titled “Scope Ruling Application; Annual Inquiry Service List; and Informational Sessions” in the Federal Register.¹¹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹²

¹⁰ See Regulations to Improve Administration and Enforcement of Antidumping and Countervailing Duty Laws, 86 FR 52300 (September 20, 2021) (Final Rule).

¹¹ See Scope Ruling Application; Annual Inquiry Service List; and Informational Sessions, 86 FR 53205 (September 27, 2021) (Procedural Guidance).

¹² Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹³

¹³ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁴ Accordingly, as stated above, the petitioners and foreign governments should submit their initial entry of appearance after publication of this notice in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁴ See Final Rule, 86 FR at 52335.

Notification to Interested Parties

This notice constitutes the antidumping duty orders with respect to aluminum foil from Armenia, Brazil, Oman, Russia, and Turkey pursuant to section 736(a) of the Act. Interested parties can find a list of antidumping duty orders currently in effect at http://enforcement.trade.gov/stats/iastats1.html.

These antidumping duty orders are published in accordance with section 736(a) of the Act and 19 CFR 351.211(b).

Dated: November 8, 2021.
Ryan Majerus,
Deputy Assistant Secretary for Policy and Negotiations, Performing the Non-Exclusive Functions and Duties of The Assistant Secretary for Enforcement and Compliance.

Appendix—Scope of the Orders

The merchandise covered by these orders is aluminum foil having a thickness of 0.2 mm or less, in reels exceeding 25 pounds, regardless of width. Aluminum foil is made from an aluminum alloy that contains more than 92 percent aluminum. Aluminum foil may be made to ASTM specification ASTM B479, but can also be made to other specifications. Regardless of specification, however, all aluminum foil meeting the scope description is included in the scope, including aluminum foil to which lubricant has been applied to one or both sides of the foil.

Excluded from the scope of these orders is aluminum foil that is backed with paper, paperboard, plastics, or similar backing materials on one side or both sides of the aluminum foil, as well as etched capacitor foil and aluminum foil that is cut to shape. Where the nominal and actual measurements vary, a product is within the scope if application of either the nominal or actual measurement would place it within the scope based on the definitions set forth above. The products covered by these orders are currently classifiable under Harmonized Tariff Schedule of the United States (HTSUS) subheadings 7607.11.3000, 7607.11.6090, 7607.11.9030, 7607.11.9060, 7607.11.9090, and 7607.19.6000.

Further, merchandise that falls within the scope of these orders may also be entered into the United States under HTSUS subheadings 7606.11.3060, 7606.11.6000, 7606.12.3045, 7606.12.3055, 7606.12.3091, 7606.12.3096, 7606.12.6000, 7606.91.3095, 7606.91.6095, 7606.92.3035, and 7606.92.6095. Although the HTSUS subheadings are provided for convenience and customs purposes, the written description of the scope of these orders is dispositive.

[FR Doc. 2021-24859 Filed 11-10-21; 8:45 am]

BILLING CODE 3510-DS-P